MORRIS K. UDALL AND STEWART L. UDALL FOUNDATION

Sunshine Act Meetings

TIME AND DATE: 9:00 a.m. to 4:00 p.m., Thursday, April 16, 2015.

PLACE: The offices of the Morris K. Udall and Stewart L. Udall Foundation, 130 South Scott Avenue, Tucson, AZ 85701.

STATUS: This meeting of the Board of Trustees will be open to the public.

MATTERS TO BE CONSIDERED: (1) Chair's Remarks; (2) Executive Director's Remarks; (3) Overview of Trustee Responsibilities; (4) Board Officers & Committee Elections; (5) Consent Agenda Approval, including program reports of the Education Programs, U.S. Institute for Environmental Conflict Resolution, and Udall Center for Studies in Public Policy/Native Nations Institute for Leadership, Management, and Policy/Udall Archives, and resolutions related to the Operating Procedures of the Board of Trustees and the Parks in Focus Fund, Inc. (6) Financial and Internal Controls Update; (7) Ethics Briefing; (8) Program Panel & Discussion; and (9) Appropriations Update.

CONTACT PERSON FOR MORE INFORMATION: Philip J. Lemanski, Executive Director, 130 South Scott Avenue, Tucson, AZ 85701, (520) 901-8500.

Dated: March 16, 2015.
Philip J. Lemanski,
Executive Director, Morris K. Udall and Stewart L. Udall Foundation, and Federal Register Liaison Officer.

[FR Doc. 2015-06556 Filed 3-18-15; 4:15 pm]

BILLING CODE 6820-FN-P